DEPARTMENT OF ENERGY

Federal Energy Regulatory Commission

[Docket No. RP96-320-040]

Gulf South Pipeline Company, LP; Notice of Compliance Filing

April 3, 2001.

Take notice that on March 29, 2001, Gulf South Pipeline Company, LP (Gulf South) tendered for filing as part of its FERC Gas Tariff, Sixth Revised Volume No. 1, the following tariff sheets, to become effective April 30, 2001.

First Revised Sheet No. 604

First Revised Sheet No. 605

First Revised Sheet No. 607

First Revised Sheet No. 1415

First Revised Sheet No. 2901

Original Sheet No. 4603

Original Sheet No. 4604

Original Sheet No. 4605

Sheet Nos. 4606-4699 Reserved

Gulf South has filed the above referenced tariff sheets in compliance with the Commission's “Order Following Technical Conference” issued March 14, 2001, in Docket No. RP96-320-029.

Any person desiring to protest said filing should file a protest with the Federal Energy Regulatory Commission, 888 First Street, NE., Washington, DC 20426, in accordance with Sections 385.211 of the Commission's Rules and Regulations. All such protests must be filed in accordance with Section 154.210 of the Commission's Regulations. Protests will be considered by the Commission in determining the appropriate action to be taken, but will not serve to make protestant parties to the proceedings. Copies of this filings are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-8607 Filed 4-6-01; 8:45 am]

BILLING CODE 6717-01-M